DEPARTMENT OF TRANSPORTATION

Federal Aviation Administration

14 CFR Part 39

[Docket No. 2001-NM-321-AD; Amendment 39-13633; AD 2004-10-03]

RIN 2120-AA64

Airworthiness Directives; Bombardier Model CL-600-2B19 (Regional Jet Series 100 & 440) Airplanes

AGENCY: Federal Aviation Administration, DOT.

ACTION: Final rule.

SUMMARY: This amendment adopts a new airworthiness directive (AD), applicable to certain Bombardier Model CL-600-2B19 (Regional Jet Series 100 & 440) airplanes, that requires repetitive inspections for cracking of the upper and lower web of the engine support beam between fuselage station (FS) 625 and FS 640, and repair if necessary. This AD also provides an optional terminating action for the repetitive inspections. This action is necessary to prevent failure of the engine support beam, a principal structural element, which could result in reduced structural integrity of the airplane. This action is intended to address the identified unsafe condition.

DATES: Effective June 21, 2004.

The incorporation by reference of a certain publication listed in the regulations is approved by the Director of the Federal Register as of June 21, 2004.

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; at the FAA, New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

FOR FURTHER INFORMATION CONTACT: James Delisio, Aerospace Engineer, Airframe and Propulsion Branch, ANE-171, FAA, New York Aircraft Certification Office, 1600 Stewart Avenue, suite 410, Westbury, New York 11590; telephone (516) 228-7321; fax (516) 794-5531.

SUPPLEMENTARY INFORMATION: A proposal to amend part 39 of the Federal Aviation Regulations (14 CFR part 39) to include an airworthiness directive (AD) that is applicable to certain Bombardier Model CL-600-2B19 (Regional Jet Series 100 & 440) airplanes was published in the Federal Register on October 31, 2003 (68 FR 62029). That action proposed to require repetitive inspections for cracking of the upper and lower web of the engine support beam (ESB) at fuselage station 640, and repair if necessary. That action also proposed to provide an optional terminating action for the repetitive inspections.

Comments

Interested persons have been afforded an opportunity to participate in the making of this amendment. The FAA has duly considered the comments received.

Request To Extend Compliance Time

One commenter requests that we extend the repetitive inspection interval from 740 flight cycles to 1,100 flight cycles. The commenter points out that Transport Canada Civil Aviation (TCCA), which is the airworthiness authority for Canada, has approved an alternative method of compliance (AMOC) for Canadian airworthiness directive CF-2001-26R1, dated September 20, 2002, which is the parallel airworthiness directive to this one. The AMOC to the Canadian airworthiness directive provides for repetitive inspections at an interval of 1,100 flight cycles.

We concur. We have coordinated this issue with TCCA, and they have confirmed that the AMOC referenced by the commenter was issued on November 20, 2002. TCCA also advises that, if Canadian airworthiness directive CF-2001-26R1 is revised in the future, the repetitive inspection interval will be extended to 1,100 flight cycles. In developing an appropriate compliance time for this AD, we considered TCCA's recommendation and the degree of urgency associated with the subject unsafe condition. In light of these factors, we find that a repetitive interval of 1,100 flight cycles represents an appropriate interval that will not compromise safety for affected airplanes. We have revised paragraph (b) of this AD accordingly.

Request To Clarify Area of Inspection

One commenter requests that we clarify the area subject to inspection per the proposed AD. The commenter notes that the proposed AD specifies external detailed inspection for cracking of the upper and lower web of the ESB at fuselage station (FS) 640. The commenter points out that the instructions in the service bulletin specify inspection of the area between FS 625 and FS 640.

We concur. We have revised the Summary section and paragraph (b) of this AD to clarify that the area subject to the inspections is between FS 625 and FS 640. We find that this change does not expand the scope of the proposed AD because the area between FS 625 and FS 640 is the subject area specified in the Accomplishment Instructions of Bombardier Alert Service Bulletin A601R-53-059, Revision ‘D,’ dated July 2, 2003, and we stated no intent in the proposed AD to differ from the referenced service bulletin in this regard.

Request To Give Credit for Previous Issues of the Service Bulletin

Two commenters request that we give credit for inspections and repairs accomplished previously per Bombardier Alert Service Bulletin A601R-53-059, Revision ‘B,’ dated August 6, 2002; or Revision ‘C,’ dated February 3, 2003. The commenters state that the instructions in these revisions of the service bulletin do not differ substantially from the instructions in Revision ‘D’ of the service bulletin, dated July 2, 2003, which the proposed AD refers to as the appropriate source of service information.

We concur and have added a new paragraph (a)(3) to this AD to give credit for actions accomplished before the effective date of this AD per Revision ‘B’ or ‘C’ of the service bulletin.

Request To Give Credit for Future Revisions of the Service Bulletin

One commenter requests that we give credit for any future revisions of Bombardier Alert Service Bulletin A601R-53-059. The commenter notes that this would eliminate the need for operators to apply for approval of an AMOC if the service bulletin is revised in the future.

We do not concur. We cannot approve use of revisions of a service document issued after publication of the AD because doing so would violate Office of the Federal Register (OFR) regulations for approval of materials “incorporated by reference” in rules. In general terms, we are required by these OFR regulations to either publish the service document contents as part of the actual AD language; or submit the service document to the OFR for approval as “referenced” material, in which case we may only refer to such material in the text of an AD. To allow operators to use later revisions of the referenced service bulletin, we must either revise the AD to reference specific later revisions, or operators must request approval to use later revisions as an AMOC under the provisions of paragraph (e) of this AD. We have not revised this AD in this regard.

Conclusion

After careful review of the available data, including the comments noted above, we have determined that air safety and the public interest require the adoption of the rule with the changes described previously. We have determined that these changes will neither increase the economic burden on any operator nor increase the scope of the AD.

Cost Impact

We estimate that 150 airplanes of U.S. registry will be affected by this AD. It will take approximately 1 work hour per airplane to accomplish the required inspection, at an average labor rate of $65 per work hour. Based on these figures, the cost impact of the required inspection on U.S. operators is estimated to be $9,750, or $65 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

The optional terminating action, if done, would take approximately 290 work hours, at an average labor rate of $65 per work hour. Required parts would be provided by the manufacturer at no charge. Based on these figures, we estimate the cost of the optional terminating action to be $18,850 per airplane.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-10-03 Bombardier, Inc. (Formerly Canadair): Amendment 39-13633. Docket 2001-NM-321-AD.

Applicability: Model CL-600-2B19 (Regional Jet Series 100 & 440) airplanes; serial numbers 7003 through 7067 inclusive, and 7069 through 7782 inclusive; certificated in any category.

Compliance: Required as indicated, unless accomplished previously.

To prevent failure of the engine support beam (ESB), a principal structural element, which could result in reduced structural integrity of the airplane, accomplish the following:

Service Bulletin References

(a) The following information pertains to the service bulletin referenced in this AD:

(1) The term “service bulletin” as used in this AD, means the Accomplishment Instructions of Bombardier Alert Service Bulletin A601R-53-059, excluding Appendix A, Revision ‘D,’ dated July 2, 2003; and including Appendix B, dated August 6, 2002.

(2) Although the service bulletin specifies to complete a comment sheet related to service bulletin quality, a sheet recording compliance with the service bulletin, and an inspection results reporting form (located in Appendix A of the service bulletin), and submit this information to the manufacturer, this AD does not include such a requirement.

(3) Inspections and repairs accomplished before the effective date of this AD per Bombardier Alert Service Bulletin A601R-53-059, Revision ‘B,’ dated August 6, 2002; or Revision ‘C,’ dated February 3, 2003; are acceptable for compliance with the corresponding actions required by this AD.

Repetitive Inspections

(b) Perform an external detailed inspection for cracking of the upper and lower web of the ESB between fuselage station (FS) 625 and FS 640, according to Part A of the service bulletin. Do the initial inspection at the time specified in paragraph (b)(1), (b)(2), or (b)(3) of this AD, as applicable. Repeat the inspection thereafter at intervals not to exceed 1,100 flight cycles.

(1) For airplanes with 7,500 total flight cycles or less as of the effective date of this AD: Do the initial inspection prior to the accumulation of 8,000 total flight cycles.

(2) For airplanes with 7,501 total flight cycles or more, but 11,750 total flight cycles or less, as of the effective date of this AD: Do the initial inspection prior to the accumulation of 12,000 total flight cycles, or within 500 flight cycles after the effective date of this AD, whichever is first.

(3) For airplanes with 11,751 total flight cycles or more as of the effective date of this AD: Do the initial inspection within 250 flight cycles after the effective date of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repair

(c) If any crack is found during any inspection performed per paragraph (b) of this AD: Before further flight, repair per a method approved by either the Manager, New York Aircraft Certification Office (ACO), FAA; or Transport Canada Civil Aviation (or its delegated agent).

Optional Terminating Action

(d) Modification of the ESB by accomplishing all actions in paragraphs 2.D. and 2.E., and in steps (1) through (40) inclusive of paragraph 2.F., of the service bulletin (including an eddy current inspection for damage (e.g., cracking) of the fastener holes in the flanges that attach the upper and lower forward angles to the upper and lower webs; and repair (oversizing the fastener holes to remove damage), if necessary) constitutes terminating action for the repetitive inspections required by paragraph (b) of this AD. Any required repair must be accomplished before further flight.

Alternative Methods of Compliance

(e) In accordance with 14 CFR 39.19, the Manager, New York ACO, is authorized to approve alternative methods of compliance for this AD.

Incorporation by Reference

(f) Unless otherwise specified in this AD, the actions shall be done in accordance with Bombardier Alert Service Bulletin A601R-53-059, excluding Appendix A, Revision ‘D,’ dated July 2, 2003, and including Appendix B, dated August 6, 2002; which includes the following effective pages:

Page No. | Revision level shown on page | Date shown on page
1-147 | D | July 2, 2003.
Appendix B
1-14 | Original | August 6, 2002.

This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; at the FAA, New York Aircraft Certification Office, 1600 Stewart Avenue, suite 410, Westbury, New York; or at the National Archives and Records Administration (NARA). For information on the availability of this material at NARA, call (202) 741-6030, or go to: http://www.archives.gov/federal_register/code_of_federal_regulations/ibr_locations.html.

Note 2: The subject of this AD is addressed in Canadian airworthiness directive CF-2001-26R1, dated September 20, 2002.

Effective Date

(g) This amendment becomes effective on June 21, 2004.

Issued in Renton, Washington, on May 5, 2004.
Ali Bahrami,
Acting Manager, Transport Airplane Directorate, Aircraft Certification Service.

[FR Doc. 04-10740 Filed 5-14-04; 8:45 am]

BILLING CODE 4910-13-P